DEPARTMENT OF ENERGY

Federal Energy Regulatory Commission

[Project No. 3819-013]

Sugarloaf Hydro, LLC, Leadville Hydro, LLC; Notice of Application of Transfer of License and Soliciting Comments, Motions To Intervene, and Protests

On January 28, 2026, Sugarloaf Hydro, LLC (transferor) and Leadville Hydro, LLC (transferee) filed an application for a transfer of license for the 2.5-megawatt Sugarloaf Hydroelectric Project No. 3819. The project is located on the U.S. Bureau of Reclamation's Mt. Elbert Conduit in Lake County, Colorado and occupies federal land within the San Isabel National Forest administered by the U.S. Forest Service.

Pursuant to 16 U.S.C. 801, the applicants seek Commission approval to transfer the license for the project from Sugarloaf Hydro, LLC to Leadville Hydro, LLC. The transferee will be required by the Commission to comply with all the requirements of the license as though it were the original licensee.

Applicants Contacts

For Transferor: Thomas A. Berutti, Sugarloaf Hydro, LLC, 1001 Stephenson Street, Norway, MI 49870, Phone: (906) 396-3000, Email: tom.berutti@gmail.com.

For Transferee: Daniel Ehr, Leadville Hydro, LLC, W10312 Ridge Road, Hortonville, WI 54944, Phone: (920) 224-2344, Email: Daniel.ehr@bakertilly.com.

FERC Contact: Steven Sachs, Phone: (202) 502-8666, Email: Steven.Sachs@ferc.gov.

Deadline for filing comments, motions to intervene, and protests: March 20, 2026, 5:00 p.m. Eastern Time. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY).

In lieu of electronic filing, you may submit a paper copy. Submissions sent via U.S. Postal Service must be addressed to, Debbie-Anne A. Reese, Secretary, Federal Energy Regulatory Commission, 888 First Street NE, Room 1A, Washington, DC 20426. Submissions sent via any other carrier must be addressed to, Debbie-Anne A. Reese, Secretary, Federal Energy Regulatory Commission, 12225 Wilkins Avenue, Rockville, Maryland 20852. The first page of any filing should include docket number P-3819-013. Comments emailed to Commission staff are not considered part of the Commission record.

For public inquiries and assistance with making filings such as interventions, comments, or requests for rehearing, contact the Office of Public Participation at (202) 502-6595 or OPP@ferc.gov.

(Authority: 18 CFR 2.1)

Dated: February 18, 2026.
Debbie-Anne A. Reese,
Secretary.

[FR Doc. 2026-03547 Filed 2-20-26; 8:45 am]

BILLING CODE 6717-01-P